DEPARTMENT OF ENERGY

Federal Energy Regulatory Commission

Combined Notice of Filings #1

March 6, 2006.

Take notice that the Commission received the following electric rate filings.

Docket Numbers: ER02-2551-003.

Applicants: Cargill Power Markets, LLC.

Description: Cargill Power Markets, LLC submits a market power analysis in support of its continued eligibility to sell electric energy at market-based rates.

Filed Date: February 28, 2006.

Accession Number: 20060303-0095.

Comment Date: 5 p.m. Eastern Time on Tuesday, March 21, 2006.

Docket Numbers: ER03-407-007.

Applicants: California Independent System Operator Corporation.

Description: California Independent System Operator Corp. submits an instant informational filing in response to Commission's March 8, 2005 Order.

Filed Date: February 27, 2006.

Accession Number: 20060301-0034.

Comment Date: 5 p.m. Eastern Time on Monday, March 20, 2006.

Docket Numbers: ER03-563-057; EL04-102-013.

Applicants: ISO New England Inc.

Description: ISO New England Inc. submits its Sixth Compliance Report pursuant to the June 2, 2004 Order.

Filed Date: February 28, 2006.

Accession Number: 20060303-0189.

Comment Date: 5 p.m. Eastern Time on Tuesday, March 21, 2006.

Docket Numbers: ER05-1258-002.

Applicants: Interstate Power and Light Company; Midwest Independent Transmission System Operator, Inc.

Description: Interstate Power & Light Co. et al, submits a revised Large Generator Interconnection Agreement with FPL Energy Duane Arnold, LLC in compliance with FERC's November 8, 2005 Order.

Filed Date: February 27, 2006.

Accession Number: 20060301-0008.

Comment Date: 5 p.m. Eastern Time on Monday, March 20, 2006.

Docket Numbers: ER04-230-023.

Applicants: New York Independent System Operator, Inc.

Description: New York Independent System Operator, Inc. submits its response to the Commission's January 26, 2006 letter Order.

Filed Date: February 28, 2006.

Accession Number: 20060228-5067.

Comment Date: 5 p.m. Eastern Time on Tuesday, March 21, 2006.

Docket Numbers: ER05-714-002.

Applicants: Gexa Energy, LLC.

Description: Gexa Energy, LLC submits its Amended FERC Rate Schedule 1 and pursuant to Order 652 informs FERC of a change in upstream ownership.

Filed Date: February 27, 2006.

Accession Number: 20060301-0030.

Comment Date: 5 p.m. Eastern Time on Monday, March 20, 2006.

Docket Numbers: ER05-1165-005.

Applicants: South Carolina Electric & Gas Company.

Description: South Carolina Electric & Gas Co. submits a revised compliance refund report pursuant to the Commission's October 21, 2005 Order.

Filed Date: February 7, 2006.

Accession Number: 20060302-0017.

Comment Date: 5 p.m. Eastern Time on Thursday, March 16, 2006.

Docket Numbers: ER05-1221-004.

Applicants: Commonwealth Edison Company.

Description: Commonwealth Edison Company submits a status report and request for Commission to defer acting on its July 15, 2005 Transmission Interconnection Agreement.

Filed Date: February 27, 2006.

Accession Number: 20060227-5120.

Comment Date: 5 p.m. Eastern Time on Monday, March 20, 2006.

Docket Numbers: ER06-321-001.

Applicants: Midwest Independent Transmission System Operator, Inc.; Midwest ISO Transmission Owners; Michigan Electric Transmission Company, LLC; International Transmission Company; WPS Resources Corporation; Wisconsin Electric Power Company; Duke Energy Vermillion LLC.

Description: Midwest Independent Transmission System Operator, Inc. et al submits a supplemental filing to its December 14, 2005 filing of proposed revisions to Module D of its Open Access Transmission and Energy Markets Tariff.

Filed Date: February 27, 2006.

Accession Number: 20060301-0031.

Comment Date: 5 p.m. Eastern Time on Monday, March 20, 2006.

Docket Numbers: ER06-470-001.

Applicants: Alcoa Power Generating Inc. Tapoco Division.

Description: Alcoa Power Generating Inc submits a clean and redline version of Second Substitute Original Sheet 213 with FERC's directed revision with an effective date of December 30, 2005.

Filed Date: February 28, 2006.

Accession Number: 20060303-0093.

Comment Date: 5 p.m. Eastern Time on Tuesday, March 21, 2006

Docket Numbers: ER06-507-001.

Applicants: ISO New England Inc.; New England Participating Transmission Owners; New England Power Pool.

Description: ISO New England, Inc. et al submit amendments to Substitute 1st Revised Sheet 5104 et al to FERC Electric Tariff 3 pursuant to Rule 1907 of FERC's Rules and Regulations Order 661 & 661-A.

Filed Date: February 27, 2006.

Accession Number: 20060301-0035.

Comment Date: 5 p.m. Eastern Time on Monday, March 20, 2006.

Docket Numbers: ER06-676-000.

Applicants: Mirant Energy Trading, LLC.

Description: Mirant Energy Trading, LLC's notice of succession with respect to the agent responsibility of Mirant Americas Energy Marketing, LP under Mirant Kendall, LLC Cost-of-Service Reliability Must Run Agreement.

Filed Date: February 27, 2006.

Accession Number: 20060301-0036.

Comment Date: 5 p.m. Eastern Time on Monday, March 20, 2006.

Docket Numbers: ER06-677-000.

Applicants: Wisconsin Public Service Corporation.

Description: Wisconsin Public Service Corp. submits the Annual Formula Rate update for the post-employment benefits and post-retirement benefits other than pensions.

Filed Date: February 27, 2006.

Accession Number: 20060301-0033.

Comment Date: 5 p.m. Eastern Time on Monday, March 20, 2006.

Docket Numbers: ER06-678-000.

Applicants: PJM Interconnection, L.L.C.

Description: PJM Interconnection, LLC submits two notices of cancellation of its interim interconnection service agreement etc.

Filed Date: February 27, 2006.

Accession Number: 20060301-0032.

Comment Date: 5 p.m. Eastern Time on Monday, March 20, 2006.

Docket Numbers: ER06-680-000.

Applicants: Northern Maine Independent System Administrator, Inc.

Description: Northern Maine Independent System Administrator, Inc. submits revisions to the NMISA FERC Electric Tariff, Original Volume 1 and to the NMISA First Revised Rate Schedule 2.

Filed Date: February 27, 2006.

Accession Number: 20060302-0053.

Comment Date: 5 p.m. Eastern Time on Monday, March 20, 2006.

Docket Numbers: ER06-681-000.

Applicants: California Independent System Operator Corporation; Pacific Gas and Electric Company.

Description: Pacific Gas and Electric Co et al. submits Large Generator Interconnection Agreement with the City and County of San Francisco, State of California pursuant to Section 205(d) of Federal Power Act etc.

Filed Date: February 28, 2006.

Accession Number: 20060302-0060.

Comment Date: 5 p.m. Eastern Time on Tuesday, March 21, 2006.

Docket Numbers: ER06-682-000.

Applicants: Ocean State Power I; Ocean State Power II.

Description: Ocean State Power et al. submit revisions to Ocean State I's Rate Schedule FERC 1-4 and Ocean State II's Rate Schedule FERC 5-8 to update its rate of return on equity.

Filed Date: February 28, 2006.

Accession Number: 20060302-0052.

Comment Date: 5 p.m. Eastern Time on Tuesday, March 21, 2006.

Docket Numbers: ER06-683-000.

Applicants: California Independent System Operator Corporation.

Description: California Independent System Operator Corp's Transmission submits its Access Charge Informational Filing for the period July 1, 2005 through December 31, 2005.

Filed Date: February 28, 2006.

Accession Number: 20060302-0059.

Comment Date: 5 p.m. Eastern Time on Tuesday, March 21, 2006.

Docket Numbers: ER98-1150-004, -005, -006; EL05-87-000, -001.

Applicants: Tucson Electric Power Company.

Description: Tucson Electric Power Co responds to FERC's January 27, 2005 deficiency letter concerning a request for additional information re simultaneous transmission import studies etc.

Filed Date: February 27, 2006.

Accession Number: 20060302-0073.

Comment Date: 5 p.m. Eastern Time on Monday, March 20, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-3489 Filed 3-10-06; 8:45 am]

BILLING CODE 6717-01-P